DEPARTMENT OF DEFENSE

Department of the Army

Proposed Collection; Comment Request

AGENCY: Department of the Army, DoD.

ACTION: Notice.

SUMMARY: In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 13, 2002.

ADDRESSES: Written comments and recommendations on the proposed information collection should be sent to the USACE, Directorate of Civil Works, Institute for Water Resources, 7701 Telegraph Road/Casey Building, Alexandria, Virginia 22315-3868, ATTN: Virginia Pankow. Consideration will be given to all comments received within 60 days of the date of publication of this notice.

FOR FURTHER INFORMATION CONTACT: To request more information on this proposed information collection or to obtain a copy of the proposal and associated collection instruments, please write to the above address, or call Department of the Army Reports Clearance Officer at (703) 692-1451.

Title, Associated Form, and OMB Number: Lock Performance Monitoring System (LPMS) Waterway Traffic Report; ENG Forms 3102C, 3102D; OMB Control No. 0710-0008.

Needs and Uses: The U.S. Army Corps of Engineers utilizes the data collected to monitor and analyze the use and operation of federally owned and operated locks. Owners, agents and, masters of vessels provide general data about vessels and estimated tonnage and commodities carried. The information is used for sizing and scheduling replacement or maintenance of locks and canals.

Affected Public: Business or other for profit.

Annual Burden Hours: 28,507.

Number of Respondents: 3,000.

Responses Per Respondent: 1.

Average Burden Per Response: 15 minutes.

Frequency: On occasion.

SUPPLEMENTARY INFORMATION: The data is used primarily by the Corps of Engineers in conducting a systems wide approach to planning and management of the waterway. The Headquarters, Division and District Offices use the information specifically to assist in making determinations on: Adequate staffing for operations and maintenance of the navigation locks and dams; to justify the hours of locks operation; to provide a basis to justify the continued funding as set out in the President's Operation and Maintenance, General Budget; to schedule route maintenance and repairs; to serve as a basis for studies and plans for improvement; for lock operating procedures; to provide data to be used in analyses for major modifications or replacements to lock and dam structures; and to forecast the impact the lock delays, downtime, and proposed changes have on the diversion of waterborne commerce to other transportation modes.

Luz D. Ortiz,
Army Federal Register Liaison Officer.

[FR Doc. 02-5907 Filed 3-11-02; 8:45 am]

BILLING CODE 3710-08-M